DEPARTMENT OF ENERGY

Federal Energy Regulatory Commission

[Docket No. RP00-288-000]

Kern River Gas Transmission Company; Notice of Filing Tariff Volume

May 23, 2000.

Take notice that on May 18, 2000, Kern River Gas Transmission Company (Kern River) tendered for filing and acceptance a completely repaginated version of its FERC Gas Tariff, which has been designated Second Revised Volume No. 1.

Kern River states that the purpose of this filing is to reflect an overall reformatting and repagination of its tariff that resulted from the conversion of First Revised Volume No. 1 of its FERC Gas Tariff to Microsoft Word. No substantive changes are being proposed.

Kern River states that it has served a copy of this filing upon its customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13362 Filed 5-26-00; 8:45 am]

BILLING CODE 6717-01-M